INTERNATIONAL TRADE COMMISSION

[Investigation No. 337-TA-567]

In the Matter of Certain Foam Footwear; Notice of Commission Decision Not To Review an Initial Determination Granting Old Dominion Footwear, Inc.'s Motion To Intervene as a Respondent for the Limited Purpose of Obtaining a Ruling as to Infringement by Its Aqua Ducks Shoe Product

AGENCY: U.S. International Trade Commission.

ACTION: Notice.

SUMMARY: Notice is hereby given that the U.S. International Trade Commission has determined not to review an initial determination (“ID”) issued by the presiding administrative law judge (“ALJ”) granting Old Dominion Footwear, Inc.'s motion to intervene in the above-captioned investigation for the limited purpose of obtaining a ruling as to whether its Aqua Ducks shoe products infringe the asserted design patent.

FOR FURTHER INFORMATION CONTACT: Monica A. Stump, Esq., Office of the General Counsel, U.S. International Trade Commission, 500 E Street, SW., Washington, DC 20436, telephone (202) 205-3106. Copies of the ALJ's ID and all other non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 11, 2006, based on a complaint, as amended, filed by Crocs, Inc. (“Crocs”) of Niwot, Colorado. 71 FR 27514 (2006). The amended complaint alleged violations of section 337 of the Tariff Act of 1930, as amended (19 U.S.C. **1337) in the importation into the United States, the sale for importation, and the sale within the United States after importation of certain foam footwear, by reason of infringement of claims 1-2 of U.S. Patent No. 6,993,858; U.S. Patent No. D517,789 (the asserted design patent); and the Crocs trade dress. The complaint identified 11 respondents.

On September 6, 2006, Old Dominion Footwear, Inc. (“Old Dominion”) of Madison Heights, Virginia, moved to intervene in the investigation. Old Dominion, complainant Crocs and the Commission investigative attorney filed a stipulation consenting to Old Dominion's motion to intervene. No party opposed the motion.

On October 10, 2006, the ALJ issued an ID granting Old Dominion's motion to intervene for the limited purpose of obtaining a ruling as to whether its Aqua Ducks shoe products infringes the asserted design patent. No petitions for review of the ID were filed.

Having examined the record of this investigation, the Commission has determined not to review the ALJ's ID.

The authority for the Commission's determination is contained in section 337 of the Tariff Act of 1930, as amended (19 U.S.C. 1337), and in sections 210.19 and 210.42 of the Commission's Rules of Practice and Procedure (19 CFR 210.19, 210.42).

Issued: October 30, 2006.
By order of the Commission.
Marilyn R. Abbott,
Secretary to the Commission.

[FR Doc. E6-18578 Filed 11-2-06; 8:45 am]

BILLING CODE 7020-02-P